DEPARTMENT OF VETERANS AFFAIRS

[OMB Control No. 2900-0577]

Agency Information Collection (Award Attachment for Certain Children With Disabilities Born of Vietnam and Certain Korea Service Veterans): Activity Under OMB Review

AGENCY: Veterans Benefits Administration, Department of Veterans Affairs.

ACTION: Notice.

SUMMARY: In compliance with the Paperwork Reduction Act (PRA) of 1995 (44 U.S.C. 3501-3521), this notice announces that the Veterans Benefits Administration (VBA), Department of Veterans Affairs, will submit the collection of information abstracted below to the Office of Management and Budget (OMB) for review and comment. The PRA submission describes the nature of the information collection and its expected cost and burden; it includes the actual data collection instrument.

DATES: Comments must be submitted on or before January 14, 2013.

ADDRESSES: Submit written comments on the collection of information through www.Regulations.gov or to VA's OMB Desk Officer, OMB Human Resources and Housing Branch, New Executive Office Building, Room 10235, Washington, DC 20503 (202) 395-7316. Please refer to “OMB Control No. 2900-0577” in any correspondence.

FOR FURTHER INFORMATION CONTACT: Crystal Rennie, Enterprise Records Service (005R1B), Department of Veterans Affairs, 810 Vermont Avenue NW., Washington, DC 20420, (202) 632-7492 FAX (202) 632-7583 or email crystal.rennie@va.gov. Please refer to “OMB Control No. 2900-0577.”

SUPPLEMENTARY INFORMATION: Title: Award Attachment for Certain Children with Disabilities Born of Vietnam and Certain Korea Service Veterans, VA Form 21-0307.

OMB Control Number: 2900-0577.

Type of Review: Extension of a currently approved collection.

Abstract: VA Form 21-0307 is used to provide children of veterans who have spina bifida with information about a VA health care and vocational training and the steps they must take to apply for such benefits.

An agency may not conduct or sponsor, and a person is not required to respond to a collection of information unless it displays a currently valid OMB control number. The Federal Register Notice with a 60-day comment period soliciting comments on this collection of information was published on October 4, 2012, at page 60746.

Affected Public: Individuals or households.

Estimated Annual Burden: 19 hours.

Estimated Average Burden per Respondent: 15 minutes.

Frequency of Response: One time.

Estimated Number of Respondents: 75.

Dated: December 7, 2012.
By direction of the Secretary.
Robert C. McFetridge,
Director, Office of Regulations Policy and Management, Office of the General Counsel, Department of Veterans Affairs.

[FR Doc. 2012-29997 Filed 12-12-12; 8:45 am]

BILLING CODE 8320-01-P